DEPARTMENT OF COMMERCE

National Oceanic and Atmospheric Administration

[I.D. 011907B]

Marine Mammals; File Nos. 1022-1659 and 482-1653

AGENCY: National Marine Fisheries Service (NMFS), National Oceanic and Atmospheric Administration (NOAA), Commerce.

ACTION: Notice; issuance of permit amendments.

SUMMARY: Notice is hereby given that Doyle Hanan has been issued an amendment to scientific research Permit No.1022-1659, and James Gilbert has been issued an amendment to scientific research Permit No. 482-1653.

ADDRESSES: The amendments and related documents are available for review upon written request or by appointment in the following offices:

Permits, Conservation and Education Division, Office of Protected Resources, NMFS, 1315 East-West Highway, Room 13705, Silver Spring, MD 20910; phone (301)713-2289; fax (301) 427-2521;

Permit No. 1022-1659: Southwest Region, NMFS, 501 West Ocean Blvd., Suite 4200, Long Beach, CA 90802-4213; phone (562) 980-4001; fax (562) 980-4018; and

Permit No. 482-1653: Northeast Region, NMFS, One Blackburn Drive, Gloucester, MA 01930-2298; phone (978) 281-9300; fax (978) 281-9394.

FOR FURTHER INFORMATION CONTACT: Amy Sloan or Brandy Hutnak, (301) 713-2289.

SUPPLEMENTARY INFORMATION: The requested amendments have been granted under the authority of the Marine Mammal Protection Act of 1972, as amended (16 U.S.C. 1361 et seq.), and the regulations governing the taking and importing of marine mammals (50 CFR part 216).

The amendments extend the expiration date of the permits from January 31, 2007, to January 31, 2008; Permit No. 1022-1659 for takes of California sea lions (Zalophus californianus) found near bait receivers located in various southern California harbors; and Permit No. 482-1653 for takes of harbor seals (Phoca vitulina) in New England waters.

In compliance with the National Environmental Policy Act of 1969 (42 U.S.C. 4321 et seq.), a final determination has been made that the activities proposed are categorically excluded from the requirement to prepare an environmental assessment or environmental impact statement.

Dated: January 22, 2007.
P. Michael Payne,
Chief, Permits, Conservation and Education Division, Office of Protected Resources, National Marine Fisheries Service.

[FR Doc. E7-1281 Filed 1-25-07; 8:45 am]

BILLING CODE 3510-22-S